DEPARTMENT OF TRANSPORTATION

Federal Transit Administration

Environmental Impact Statement: South Corridor Phase 2 in Sacramento, CA

AGENCY: Federal Transit Administration, DOT.

ACTION: Notice of Intent to prepare a Supplemental Environmental Impact Statement (SEIS).

SUMMARY: The Federal Transit Administration (FTA) and the Sacramento Regional Transit District (RT) intend to prepare a Supplemental Environmental Impact Statement (SEIS) in accordance with the National Environmental Policy Act (NEPA) and a Subsequent Environmental Impact Report (SEIR) in accordance with the California Environmental Quality Act (CEQA) for a proposed light rail extension in the South Sacramento Corridor from Meadowview Road to Calvine Road at Auberry Road (Calvine/Auberry).

The proposed light rail transit mode and alignment were selected in 1995 by the RT Board of Directors as the Locally Preferred Alternative (LPA) following completion in 1994 of an Alternatives Analysis/Draft EIS/Draft EIR (AA/DEIS/DEIR) for the South Sacramento Corridor. Seven transit alternatives (including bus, high-occupancy vehicle, and rail modes) with various alignment and station locations were evaluated in the AA/DEIS/DEIR). The LPA was included in the Sacramento Area Council of Government's Metropolitan Transportation Plan.

The LPA (called the Low/UPRR Alignment in the AA/DEIS/DEIR) is an 11.5-mile extension to the existing light rail system beginning in downtown Sacramento and extending to Calvine/Auberry. In agreement with FTA, RT planned to build the LPA in phases. Phase 1 is currently under construction and extends light rail from downtown Sacramento for 6.5 miles to Meadowview Road, with seven stations at Broadway, 4th Avenue/Wayne Hultgren, City College, Fruitridge, 47th Avenue, Florin, and Meadowview. Revenue service for Phase 1 is anticipated to begin in September 2003.

The proposed Phase 2 would extend light rail approximately five miles from Meadowview Road to Calvine/Auberry. To date, five stations have been identified at Franklin Boulevard, Center Parkway (optional), Cosumnes River College/College Square, Power Inn Road (optional), and Calvine/Auberry. The proposed Phase 2 light rail extension would follow the Union Pacific Railroad (UPRR) right-of-way south from Meadowview Road, turn east along the proposed extension of Cosumnes River Boulevard, follow the Boulevard to Bruceville Road, turn south along Bruceville Road to serve Cosumnes River College/College Square development, turn east to cross State Route 99, and terminate at a station at Calvine/Auberry.

The SEIS/SEIR will evaluate a No-Action Alternative, a future “New Starts” Baseline Alternative, the Phase 2 Light Rail Extension Alternative, and additional alternatives that emerge from the scoping process. Scoping will be accomplished through correspondence and discussions with interested persons; community organizations; federal, state and local agencies; and through public meetings.

DATES: Comment Due Date: Written comments on the scope of alternatives and impacts to be considered in the SEIS/SEIR must be received no later than May 15, 2002, and must be sent to RT at the address indicated below.

Scoping Meetings

Public scoping meetings will be held on: (1) March 25, 2002 from 5:30 p.m. to 8:00 p.m. at Cosumnes River College Recital Hall, 8401 Center Parkway, Sacramento, CA 95823 and (2) April 11, 2002 from 5:30 p.m. to 8:00 p.m. at the Pannell Center located at 2450 Meadowview Road, Sacramento, CA 95832. The formal scoping meetings will be preceded by an open house (5:30 to 6:30 pm), allowing for the public to discuss the SEIS/SEIR work scope, process, proposed project, and alternatives with RT staff and consultants. A brief presentation will be given at 6:30 p.m., beginning the formal scoping meeting. Graphic presentations and scoping materials will be provided to assist the public in understanding the proposed project alternatives. The presentation will focus on the project purposes and alternatives and will be followed by a question and answer period, which will be recorded and transcribed. The open house will then resume until 8:00 p.m. Interested community organizations and the public are invited to attend. A federal, state, and local agency scoping meeting is scheduled for April 11, 2002, from 10:30 a.m. to 12:30 p.m. at RT's Transit Administration Building in the Auditorium located at 1400 29th Street, Sacramento, CA 95816.

Opportunities will be offered during the scoping meetings for comments to be provided either orally during the question and answer period or in writing during the entire scoping comment period.

ADDRESSES: Written comments should be sent to Mr. David M. Melko, Policy and Program Manager, Sacramento Regional Transit District, P.O. Box 2110, Sacramento, CA 95816-2110. Phone: (916) 321-2992. Fax: (916) 444-2156. To be added to the mailing list, contact Ms. Susan Willson, The Hoyt Company, 660 J Street, Suite 444, Sacramento, CA 95814, (916) 448-2440, e-mail address: swillson@thehoytco.com. Please specify the mailing list for the South Sacramento Corridor Phase 2 SEIS/SEIR. People with special needs such as sign language interpretation also should contact Susan Willson, as indicated above. The dates and addresses of the scoping meetings are given in the DATES section above. All locations are accessible to people with disabilities.

FOR FURTHER INFORMATION CONTACT: To request a scoping information packet, contact Mr. David Melko, Policy and Program Manager, Sacramento Regional Transit District, P.O. Box 2110, Sacramento, CA 95812-2110. Phone: (916) 321-2992. Fax: (916) 444-2156. The Federal agency contact is Mr. Jerome Wiggins, Office of Planning and Program Development, FTA, 201 Mission Street, Room 2210, San Francisco, CA 94105. Phone: (415) 744-3115.

SUPPLEMENTARY INFORMATION:

I. Scoping

The FTA and RT invite all interested individuals and organizations, and federal, state, regional, and local agencies to provide comments on the scope of the project and environmental considerations. The 1994 Alternatives Analysis/Draft Environmental Impact Statement/Draft Environmental Impact Report (AA/DEIS/DEIR) is available for public review at the Cosumnes River College Library, 8401 Center Parkway, Sacramento, CA 95823 and at the RT Administration Building, 1400 29th Street, Sacramento, CA 95816. Please contact Mr. Melko to review the copy at RT. Written comments on the project alternatives and potential impacts to be considered should also be sent to Mr. Melko.

II. Purpose and Need

The project purpose is to improve public transit service in the severely congested South Corridor by providing increased transit capacity and faster, convenient access throughout the Sacramento metropolitan region.

As stated in the 1994 AA/DEIS/DEIR, the project's goals are to: (1) Provide a transportation system that is safe, efficient, and coordinated, and that provides a balanced set of travel alternatives in the corridor, (2) ensure compatibility between land use policies and transportation policies so that the need for and amount of travel using automobiles is minimized, (3) provide a transportation system that makes the most efficient use of limited resources, (4) provide a transportation system that enhances and preserves the physical and natural environment, (5) provide a transportation system that is consistent with the needs and desires of the residents of the corridor, and that thereby maximizes community acceptance and political support.

There is a need to alleviate severe and ever-increasing traffic congestion on State Route 99 (SR 99), which currently has recurring traffic congestion (Level of Service F) for one to two hours during both the morning and afternoon commute periods between Calvine and Florin roads. Daily traffic volumes north of Mack Road along SR 99 are expected to increase by 20 to 25 percent over the next 20 years. Between Calvine and Mack Roads, a 40 to 50 percent increase is expected. During the 1990s, SR 99 was widened to accommodate High Occupancy Vehicle (HOV) lanes from Elk Grove Boulevard north to the Sacramento Central City. However, no additional improvements are planned for this section over the next 20 years. The projected increase in traffic volumes will cause congestion on SR 99 to expand to more hours of the day and extend southward to Elk Grove, and this congestion is expected to cause traffic diversions to numerous parallel arterial roadways in the corridor, thereby adding to anticipated congestion levels along these roadways.

III. Alternatives

The SEIS/SEIR will evaluate a No-Action Alternative, a future “New Starts” Baseline Alternative (sometimes called the Transportation Systems Management Alternative), and the Phase 2 Light Rail Extension. The alternatives will be developed further during the preparation of the Draft SEIS/SEIR. A brief description of the alternatives is provided below.

No-Action Alternative

This alternative consists of highway and transit systems existing as of year 2000, plus programmed improvements to the year 2025. It includes future conditions against which the transportation, environmental, and community impacts of the other alternatives are compared under NEPA.

Future “New Starts” Baseline Alternative

The Baseline Alternative is best described as transit improvements lower in capital cost than the proposed “Build” (light rail) Alternative. This alternative is generally the “best that can be done” without building the rail project. By definition, this alternative must result in a better ratio of transit mobility measures compared to cost than the No-Action Alternative.

The purpose of the Baseline Alternative is to isolate costs and benefits of the proposed major transit investment. At a minimum, the Baseline Alternative must include in the project corridor all reasonable cost-effective transit improvements short of investment in the light rail project. The New Starts Program is a federal program that provides funds for qualifying bus, rail and other transit-related projects.

Light Rail Alternative

This alternative consists of the construction of a five-mile extension of the light rail system from Meadowview Road to Calvine/Auberry and a supporting feeder bus system. To date, five stations have been identified at Franklin Boulevard, Center Parkway (optional), Cosumnes River College/College Square, Power Inn Road (optional), and Calvine/Auberry. The proposed extension would follow the UPRR right-of-way south from Meadowview Road, turn east along the proposed extension of Cosumnes River Boulevard, follow the Boulevard to Bruceville Road, turn south to serve Cosumnes River College/College Square development, turn east to cross State Route 99, and terminate at a station at Calvine/Auberry. Due to funding constraints, the light rail extension may need to be constructed in phases to one of two possible temporary terminal stations: Franklin Boulevard or Cosumnes River College/College Square. It is assumed that these temporary terminal stations would be served by bus, express bus, and/or bus rapid transit routes and be supported by park-and-ride facilities.

IV. Probable Effects

The purpose of the SEIS/SEIR is to fully disclose, in advance of any decisions to commit substantial financial or other resources, the environmental consequences of building and operating a major capital investment in the Sacramento South Corridor. The SEIS/SEIR will explore the extent to which study alternatives and design options result in environmental impacts and will discuss actions to reduce or eliminate such impacts. Environmental issues to be examined in the SEIS/SEIR include: changes to the physical environment (biological and cultural resources, air quality, noise/vibration, water quality, floodplains, geology, visual/aesthetics); changes in the social environment (land use, development, business and neighborhood disruptions); changes in traffic and pedestrian circulation; changes in transit service and patronage; associated changes in traffic congestion; and impacts on parklands and historic sites. Impacts will be identified both for the construction period and for the long-term operation of the alternatives. The proposed evaluation criteria include transportation, social economic, and financial measures, as required by current federal (NEPA) and state (CEQA) environmental laws and the implementing regulations of the Council on Environmental Quality, FTA, and the State Office of Planning and Research.

The relationship of the alternatives to other major corridor projects will be evaluated in the SEIS/SEIR. Examples include:

• Cosumnes River Boulevard extension,

• Roadway widenings—Cosumnes River Boulevard and Bruceville Road,

• Floodplain/drainage/levee/floodwall improvements,

• Existing and proposed utitilies in the corridor—major sewer interceptors, possible Freeport Diversion water pipeline,

• Land use developments—College Square, City redevelopment areas, Cosumnes River College plans and improvements,

• UPRR capacity improvements, and

• Master Plan for the County Sanitation District Bufferlands.

To ensure that the full range of issues related to this proposed action will be addressed and all significant issues identified, comments and suggestions are invited from all interested parties. Comments or questions concerning this proposed action and the SEIS/SEIR should be directed to the RT Program Manager as noted in the ADDRESSES section above.

V. FTA Procedures

To streamline the NEPA process and to avoid duplication of effort, the agencies involved in the scoping process will consider the results of any previous planning studies or financial feasibility studies (e.g., Multi-Corridor Study [RT, 2001] and Sacramento Systems Planning Study [RT, 1991]) prepared in support of a decision by the Sacramento Area Council of Governments to include a particular alternative in the Regional Transportation Plan for Metropolitan Sacramento. Prior transportation planning studies may be pertinent to establishing the purpose of and need for the proposed action and the range of alternatives to be evaluated in detail in the SEIS/SEIR. The Draft SEIS/SEIR will be prepared simultaneously with conceptual engineering for the alternatives, including station and alignment options. The Draft SEIS/SEIR process will address the potential use of federal funds for the proposed action, as well as assess the social, economic, and environmental impacts of the alternatives. Station designs and alignment alternatives will be refined to minimize and mitigate any adverse impacts. After publication, the Draft SEIS/SEIR will be available for public and agency review and comments, and (a) public hearing(s) will be held. Based on the Draft SEIS/SEIR and comments received, RT will further refine the preferred alternative identified in the Final SEIS/SEIR and will apply for FTA approval to initiate Preliminary Engineering of the preferred alternative.

Issued March 4, 2002.
F. James Kenna,
Deputy Region IX Administrator.

[FR Doc. 02-5636 Filed 3-7-02; 8:45 am]

BILLING CODE 4910-57-P